DEPARTMENT OF LABOR

Employment and Training Administration

[TA-W-59,043]

PTX-Pentronix, Inc. a Subsidiary of Gasbarre Products, Inc. Lincoln Park, Michigan; Notice of Termination of Investigation

Pursuant to section 221 of the Trade Act of 1974, an investigation was initiated on March 16, 2006 in response to a petition filed on behalf of workers at PTX-Pentronix, Inc., a subsidiary of Gasbarre Products, Inc., Lincoln Park, Michigan (TA-W-59,043).

The petitioner has requested that the petition be withdrawn. Consequently, further investigation in this case would serve no purpose, and the investigation has been terminated.

Signed in Washington, DC this 23rd day of March, 2006.
Linda G. Poole,
Certifying Officer, Division of Trade Adjustment Assistance.

[FR Doc. E6-5371 Filed 4-11-06; 8:45 am]

BILLING CODE 4510-30-P